DEPARTMENT OF STATE

22 CFR Part 8

RIN 1400-AC64

[Public Notice 7773]

Advisory Committee Management

AGENCY: Department of State.

ACTION: Final rule.

SUMMARY: This final rule removes regulations which implement the Federal Advisory Committee Act (FACA) for the Department of State. The Department of State implementation of FACA is now governed by the rules promulgated by GSA and internal policy guidance in the Foreign Affairs Manual.

DATES: Effective Date: This rule is effective on February 27, 2012.

FOR FURTHER INFORMATION CONTACT: Alice Kottmyer, Office of the Legal Adviser, who may be reached at (202) 647-2318.

SUPPLEMENTARY INFORMATION: Pursuant to Section 8(a) of the Federal Advisory Committee Act (FACA), 5 U.S.C. Appendix, agency heads are required to establish uniform administrative guidelines and management controls for advisory committees established by that agency.

The Department of State first finalized its rules, codified at 22 CFR Part 8, in 1975. Since then, GSA has promulgated comprehensive guidance at 41 CFR Part 102-3, and the Department recently published updated internal guidance that implements FACA and the GSA regulations. The Department guidance is in Volume 11 of the Foreign Affairs Manual, and can be found at: http://www.state.gov/documents/organization/176811.pdf. The provisions of Part 8 are obsolete and are hereby removed.

Regulatory Analyses

Administrative Procedure Act

Removing 22 CFR part 8 is a decision regarding the Department's organization, procedure, or practice and is not subject to the notice-and-comment procedures of 5 U.S.C. 553(b).

Regulatory Flexibility Act/Executive Order 13272: Small Business

The Department certifies that this rulemaking is not expected to have a significant impact on a substantial number of small entities under the criteria of the Regulatory Flexibility Act, 5 U.S.C. 601-612, and Executive Order 13272, section 3(b).

The Small Business Regulatory Enforcement Fairness Act of 1996

This rulemaking is not a major rule as defined by 5 U.S.C. 804, for purposes of congressional review of agency rulemaking under the Small Business Regulatory Enforcement Fairness Act of 1996, Public Law 104-121. This rulemaking will not result in an annual effect on the economy of $100 million or more; a major increase in costs or prices; or significant adverse effects on competition, employment, investment, productivity, innovation, or the ability of United States-based companies to compete with foreign-based companies in domestic and export markets.

The Unfunded Mandates Reform Act of 1995

Section 202 of the Unfunded Mandates Reform Act of 1995, 2 U.S.C. 1532, generally requires agencies to prepare a statement before proposing or adopting any rule that may result in an annual expenditure of $100 million or more by state, local, or tribal governments, or by the private sector. This rulemaking will not result in any such expenditure nor will it significantly or uniquely affect small governments.

Executive Orders 12372 and 13132: Federalism

This rulemaking will not have substantial direct effects on the states, on the relationship between the national government and the states, or on the distribution of power and responsibilities among the various levels of government. Nor will the rule have federalism implications warranting the application of Executive Orders No. 12372 and No. 13132.

Executive Order 12866: Regulatory Review

Although the Department of State is generally exempt from the provisions of Executive Order 12866, it has reviewed this rulemaking to ensure its consistency with the regulatory philosophy and principles set forth in that Executive Order, and has determined that the benefits of the regulation justify any costs. The Department does not consider this rulemaking to be a significant regulatory action within the scope of section 3(f)(1) of the Executive Order.

Executive Order 13563

The Department of State has considered this rule in light of Executive Order 13563, dated January 18, 2011, and affirms that this regulation is consistent with the guidance therein.

Executive Order 12988: Civil Justice Reform

The Department has reviewed this rulemaking in light of sections 3(a) and 3(b)(2) of Executive Order No. 12988 to eliminate ambiguity, minimize litigation, establish clear legal standards, and reduce burden.

Executive Order 13175: Consultation and Coordination With Indian Tribal Governments

The Department has determined that this rulemaking will not have tribal implications, will not impose substantial direct compliance costs on Indian tribal governments, and will not pre-empt tribal law. Accordingly, the requirements of Section 5 of Executive Order 13175 do not apply to this rulemaking.

The Paperwork Reduction Act of 1995

The Department of State has determined that this rulemaking does not require any collection of information under the Paperwork Reduction Act.

List of Subjects in 22 CFR Part 8

Advisory Committee Management.

Accordingly, under the authority of 22 U.S.C. 2651a, for the reasons set forth in the preamble, the Department removes 22 CFR Part 8.

PART 8—[REMOVED]

Dated: January 12, 1012.
Patrick J. Kennedy,
Under Secretary for Management.

[FR Doc. 2012-1851 Filed 1-26-12; 8:45 am]

BILLING CODE 4710-08-P